DEPARTMENT OF HEALTH AND HUMAN SERVICES

Announcement of Availability of Funds for Adolescent Family Life Research Grants; Correction

AGENCY: Office of Population Affairs, Office of Public Health and Science, Office of the Secretary, HHS.

ACTION: Notice; correction.

SUMMARY: The Office of Population Affairs published a notice in the Federal Register of June 20, 2003 announcing the availability of funds for adolescent family life research grants. This Notice did not include the RFA (Request for Applications) number. This Notice corrects that error.

FOR FURTHER INFORMATION CONTACT: Eugenia Eckard, 301-594-4001.

Correction

In the Federal Register of June 20, 2003, in FR Doc. 03-15579, beginning on page 36992, an RFA number should have been included. On page 36994, section IV, add the following sentence to the end of the third paragraph: “Reference RFA number HS-03-008”.

Dated: July 8, 2003.
Alma L. Golden,
Deputy Assistant Secretary for Population Affairs.

[FR Doc. 03-17917 Filed 7-15-03; 8:45 am]

BILLING CODE 4150-30-P